DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by July 31, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: Dr. Jeffrey Powell, Yale University, New Haven, CT, PRT-784934

The applicant requests renewal of a permit to import samples collected from wild Galapagos tortoises (Geochelone nigra) for the purpose of scientific research. This notification covers activities to be conducted by the applicant over a five-year period.

Applicant: Zoological Society of San Diego, San Diego, California, PRT-124435

The applicant requests a permit to export semen samples from a Northern white rhinoceros (Ceratoterium simum cottoni) to the Zoologicka Zahrada Dvur Kralove nad Labem in the Czech Republic for enhancement of the survival of the species.

Applicant: Sterling G. Fligge, II, Granite Bay, CA, PRT-128031

The applicant requests a permit to import the sport-hunted trophy of one male bontebok (Damaliscus pygargus pygargus) culled from a captive herd maintained under the management program of the Republic of South Africa, for the purpose of enhancement of the survival of the species.

Applicant: Mark A. Wayne, Arlington, VA, PRT-126766

The applicant requests a permit to import the sport-hunted trophy of one male bontebok (Damaliscus pygargus pygargus) culled from a captive herd maintained under the management program of the Republic of South Africa, for the purpose of enhancement of the survival of the species.

Applicant: George F. Gehrman, Powell, WY, PRT-127007

The applicant requests a permit to import the sport-hunted trophy of one male bontebok (Damaliscus pygargus pygargus) culled from a captive herd maintained under the management program of the Republic of South Africa, for the purpose of enhancement of the survival of the species.

Applicant: Paul J. Ritz, Polacca, AZ, PRT-127651

The applicant requests a permit to import the sport-hunted trophy of one male bontebok (Damaliscus pygargus pygargus) culled from a captive herd maintained under the management program of the Republic of South Africa, for the purpose of enhancement of the survival of the species.

Applicant: Thomas M. Baker, Bowling Green, KY, PRT-128023

The applicant requests a permit to import the sport-hunted trophy of one male bontebok (Damaliscus pygargus pygargus) culled from a captive herd maintained under the management program of the Republic of South Africa, for the purpose of enhancement of the survival of the species.

Applicant: Michael T. Yeary, Pampano Beach, FL, PRT-126631

The applicant requests a permit to import the sport-hunted trophy of one male bontebok (Damaliscus pygargus pygargus) culled from a captive herd maintained under the management program of the Republic of South Africa, for the purpose of enhancement of the survival of the species.

Applicant: Larry J. Kovach, Flagstaff, AZ, PRT-125221

The applicant requests a permit to import the sport-hunted trophy of one male bontebok (Damaliscus pygargus pygargus) culled from a captive herd maintained under the management program of the Republic of South Africa, for the purpose of enhancement of the survival of the species.

Applicant:James D. Giles, Garland, TX, PRT-122437

The applicant requests a permit to import the sport-hunted trophy of one male bontebok (Damaliscus pygargus pygargus) culled from a captive herd maintained under the management program of the Republic of South Africa, for the purpose of enhancement of the survival of the species.

Applicant: Kevin Keith aka Kevin Keith's Primal Instinct, Napa, CA, PRT-126707

The applicant request a permit to export, re-export, and re-import one captive-born male mandrill (Mandrillus sphinx) to worldwide locations for the purpose of enhancement of the species through conservation education. This notification covers activities to be conducted by the applicant over a three-year period and the import of any potential progeny born while overseas.

Dated: June 16, 2006.
Michael L. Carpenter,
Senior Permit Biologist, Branch of Permits, Division of Management Authority.

[FR Doc. E6-10316 Filed 6-29-06; 8:45 am]

BILLING CODE 4310-55-P